CONSUMER PRODUCT SAFETY COMMISSION

[Docket No. CPSC-2011-0074]

Agency Information Collection Activities; Submission for Office of Management and Budget Review; Comment Request; CPSC Table Saw User Survey

AGENCY: Consumer Product Safety Commission.

ACTION: Notice.

SUMMARY: The Consumer Product Safety Commission (CPSC or Commission) is announcing that a proposed collection of information regarding a survey of table saw users to determine the effectiveness of modular blade guards has been submitted to the Office of Management and Budget (OMB) for review and clearance under the Paperwork Reduction Act of 1995.

DATES: Written comments on this request for extension of approval of information collection requirements should be submitted by March 12, 2014.

ADDRESSES: OMB recommends that written comments be faxed to the Office of Information and Regulatory Affairs, OMB, Attn: CPSC Desk Officer, FAX: 202-395-6974, or emailed to oira_submission@omb.eop.gov. All comments should be identified by Docket No. CPSC-2011-0074. In addition, written comments also should be submitted at http://www.regulations.gov, under Docket No. CPSC-2011-0074, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov. The draft survey may be viewed under Docket No. CPSC-2011-0074, Supporting and Related Materials.

FOR FURTHER INFORMATION CONTACT: Robert H. Squibb, Consumer Product Safety Commission, 4330 East West Highway, Bethesda, MD 20814; (301) 504-7815, or by email to: rsquibb@cpsc.gov.

SUPPLEMENTARY INFORMATION:

A. Background

A. Table Saw User Survey

The CPSC is considering whether a new performance safety standard is needed to address an unreasonable risk of injury associated with table saws. On October 11, 2011, the Commission published an advance notice of proposed rulemaking (ANPR) for table saws, under the Consumer Product Safety Act (CPSA), 15 U.S.C. 2051-2084. (76 FR 62678). The ANPR explained that under the current voluntary standard, UL 987, Stationary and Fixed Electric Tools, published in November 2007, a new modular blade guard design, developed by a joint venture of table saw manufacturers, expanded the table saw guarding requirements. The new blade guard did not consist of a hood, but rather, a top-barrier guarding element and two side-barrier guarding elements. The new modular guard design was intended by UL to provide safety improvements over traditional hood guard designs, by providing better visibility, by being easier to remove and install, and by incorporating a permanent riving knife design. The revised standard also specified detailed design and performance requirements for the modular blade guard, riving knife, and anti-kickback device(s). The effective date for the new requirements in UL 987 was January 31, 2010.

In the ANPR, the Commission expressed concern that the requirements in the voluntary standard for table saws, UL 987, which include a permanent riving knife and the new modular blade guard system, may not adequately address the operator blade contact injuries associated with table saw use. The Commission stated that:

While we support the recent progress UL has made in improving the voluntary standard to address blade contact injuries by focusing solely on prevention of skin-to-blade contact, the standard requirements do not appear to address adequately the number or severity of blade contact injuries that occur on table saws, nor do they address the associated societal costs. In addition, while we believe that the new modular guard design is a significant improvement over the old guard design, the effectiveness of any blade guard system depends upon an operator's willingness to use it. Safety equipment that hinders the ability to operate the product likely will result in consumers bypassing, avoiding, or discarding the safety equipment. In addition, of the 66,900 table saw operator blade contact injuries in 2007 and 2008, approximately 20,700 (30.9%) of the injuries occurred on table saws where the blade guard was in use. The current voluntary standard for table saws does not appear to address those types of injuries. Accordingly, we are particularly interested in obtaining information regarding current or developing voluntary standards that would address table saw blade contact injuries.

76 FR 62683.

Currently, the CPSC does not have information about actual use by consumers of the new modular blade guard. Because the usage patterns are directly linked to the safety of the user, additional data are needed to understand how consumers use the modular blade guard to determine how effective the design will be in preventing future injuries.

The data collected from this survey will be used to help CPSC staff understand better how consumers are using the modular blade guard system, such as when consumers install and remove the blade guard, what type of cuts are being made without the blade guard, and/or what may be preventing the use of the blade guard. With additional information, the Commission will be able to evaluate better the role of modular blade guards on table saws. The data, along with other available test results and studies will be reviewed by the Commission in its consideration of whether a new performance safety standard is needed to address an unreasonable risk of injury associated with table saws.

To gather the information, the CPSC will conduct a survey of consumers who own table saws with a modular blade guard system. Because the population of owners of table saws that were purchased with a modular blade guard is a specific and hard-to-reach population, the survey will be based on a convenience sample of participants recruited by various advertisement strategies. A convenience sample is a non-probability sample, which is collected by the most efficient means of reaching a group of interest. No results from the survey will be generalized to the population or used to draw statistical inferences.

To recruit respondents, advertisements will be placed on popular Web sites, in woodworking magazines, and posted in woodworking guilds with their cooperation. Respondents will have the option of going through a screening process, either online, or via telephone. Respondents meeting the criteria of the survey—owners of table saws with the modular blade guard system—will participate in the follow-up, full-scale Computer Assisted Telephone Interviewing (CATI) survey about their usage of, and opinions about, the modular blade guard system.

CPSC staff anticipates that approximately 200 eligible respondents will complete the CATI interview survey. After completion of the full-scale CATI survey, each respondent will be sent a $50 check for completing the survey. A final report will summarize the data about modular blade use collected from the surveyed table saw owners. Any patterns that emerge may also be used by CPSC staff to develop future studies.

On May 28, 2013, the Commission sought comments on the proposed collection of information through a survey to obtain information from consumers (respondents) who own table saws with a modular blade guard system. 78 FR 31897.

B. Comments

The Commission received five comments on the table saw survey. One commenter generally supported the survey. One commenter raised an issue regarding the SawStop technology but did not raise any issues related to the survey. That comment is outside the scope of the notice regarding the proposed information collection and will be treated as a comment to the ANPR. Comments were also submitted by Stephen Gass, the manufacturer of SawStop table saws, and the Power Tool Institute (PTI). PTI made two submissions. On May 13, 2013, prior to the publication of the May 28, 2013 notice, PTI submitted its own draft survey to the Commission for consideration. On July 26, 2013, PTI submitted comments on the CPSC's proposed survey.

The Commission will continue to use the survey sponsored by the CPSC, which is tailored to address the CPSC staff's questions on table saw modular blade guard use. However, several changes have been made to the CPSC's survey, in response to comments from Mr. Gass and PTI, as discussed below.

1. Injury Data

Comment: Mr. Gass states that to understand usage of the modular blade guard system, injured users should be surveyed to determine whether the injury occurred with the new modular blade guard system or an older guard. According to Mr. Gass, if the new guards are truly effective, there should be a commensurate drop in the number of table saw injuries in the National Electronic Surveillance System (NEISS).

Response: A reduction in injuries is the most direct way of assessing the effectiveness of the new modular blade guard. However, the currently available injury data do not provide that information. For example, NEISS data on table saw-related injuries do not indicate whether a blade guard was used, what type of blade guard was used, or how the blade guards were used. The CPSC has conducted a special study on injuries associated with table saws in 2007 and 2008. However, the addition of the revised modular blade guard system is a recent development and another special study is unlikely to gather sufficient data to assess the efficacy of the modular blade guard in injury prevention. Through the proposed survey, CPSC staff believes that more information regarding the use of the modular blade guard will become available, will supplement existing CPSC information and data, and will assist the Commission in identifying addressable hazards related to table saw use.

2. Definitions

Comment: Both Mr. Gass and PTI state that clear definitions must be provided to all participants to identify properly the table saw used by the participant.

Response: To identify the respondent's saw better, the revised survey provides that clear definitions of table saws (bench top portable bench saw, contractor saw, stationary saw) will be provided to all participants.

3. Number of Respondents

Comment: Although PTI states that some useful information may be developed, PTI questions the utility of a survey that has only 100 respondents, if the information is intended for use in developing a rule.

Response: The primary goal of the survey is to help CPSC staff understand if and how the modular blade guard system is used by consumers. The principal benefit of the survey is to provide the Commission with important information about table saw use that is now lacking and would not be obtainable other than through such a survey. The survey now seeks two hundred responses (up from the 100 respondents initially sought), which will greatly expand the quantity and scope of existing information and significantly inform staff's evaluation of modular blade guard systems. To the extent that other studies, tests, or surveys have been performed to analyze table saw blade contact injuries, the Commission would review all available data in its consideration of whether a new performance safety standard is needed to address an unreasonable risk of injury associated with table saws.

The population sought in the survey is a specific subset of all table saw users and is a hard-to-reach population. The survey seeks consumers who purchased table saws with a modular blade guard within the last 4 years (from 2009 and the present). Table saws purchased before 2009 do not meet the needs of the study; and the consumers who purchased table saws before 2009 will constitute a significant portion of current table saw owners. Accordingly, this survey will be based on a convenience sample of recruited participants by various advertisement strategies. No results from this study will be generalized to the population.

4. Years Covered by the Survey

Comment: According to PTI, the screener and survey should cover years before 2009 because table saws with modular guards were on the market as of 2007.

Response: Due to the limited number of table saws sold before 2009 with a modular blade guard, the cost of recruiting participants would increase greatly if the survey were expanded to add table saws purchased before 2009. Few table saws had modular blade guards before 2009, so significant additional data are not likely to be obtained from the period between 2007 and 2009. Because many more table saws manufactured in 2009 and later were sold with modular blade guards, the survey covers 2009 to the present.

5. New vs. Old Table Saws

Comment: PTI states that the survey should focus only on new table saws purchased or received as a gift and that all questions regarding used table saws or table saws without modular blade guards should be removed.

Response: The survey will not be limited to new table saws because there is a secondhand market for table saws. The survey seeks to obtain information on how table saw owners are using (or not using) their modular blade guard system. If table saw users are not using their modular blade guard system because they did not purchase, install, or receive one, that information is useful to CPSC staff. Similarly, if the lack of instructions prevents the user from installing and using the modular blade guard system, that information also will assist CPSC staff in understanding the use patterns of the modular blade guard system.

6. Screener Should Apply To All Woodworkers

Comment: PTI states that the table saw survey should not terminate if the participant is using the saw only at work or at wood working facilities. According to PTI, the survey already establishes that the table saw is owned by the participant and not by the participant's employer or by a third party.

Response: Many table saw owners are consumers who may use the table saw to perform work and for recreation. These participants are invited to complete the screener questions and survey, if applicable. However, if the table saw owner is using the table saw for work purposes only, or in a commercial woodworking facility, those woodworkers fall outside the scope of the survey, which is intended to assess how consumers would use the modular blade guard system.

7. Other Clarifications to the Screener/Survey

Comment: PTI contends that the survey questions regarding table saw use and installation or removal of the modular blade guard require additional clarification or revision. PTI states that a more accurate picture of the traditional guarding system should be used in the table saw screener. In addition, PTI states that questions comparing modular blade guards to traditional blade guards should be removed or clarified.

Response: In response to this comment, many of the questions related to the blade guard and certain types of cuts have been revised. A new picture of the traditional guard has been added, as suggested by the commenter. The questions have been clarified to specify the use and removal of the blade guard for both through or non-through cuts. In addition, other questions have been removed, including questions that were ambiguous or unrelated to the use of the modular blade guard system, such as questions on kickback and riving knife use. However, the survey does not modify questions comparing the use of the modular blade guard to the traditional blade guard because these questions ascertain overall attitudes for general blade guard use, and there is no need to distinguish between through cuts or non-through cuts for these questions.

B. Burden Hours

CPSC staff estimates that the recruitment stage time required to verify whether a respondent fits the study's target group of consumers will not exceed 10 minutes, and the actual survey will not exceed 25 minutes. Thus, total time per eligible respondent is estimated not to exceed 35 minutes. For the 200 anticipated eligible respondents, (which is up from the 100 respondents originally targeted) the total time required in connection with the survey would be estimated at approximately 116 hours (200 x 0.58 hours) in the aggregate. According to the Bureau of Labor Statistics, September 2013 (updated from March 2013), the average hourly compensation rate for all workers is $29.23. The total cost burden to respondents for this study is estimated at $3,391.

The estimated cost under the federal government contract is $276,585 for the costs of recruiting respondents and conducting the survey. In addition, one full-time CPSC employee will spend an estimated 600 hours of labor reviewing responses for a total estimated cost of $49,488, the equal to 600 hours at an hourly compensation rate of $57.08 for a GS-14 Step 5 employee, with an additional 30.8 percent added for benefits for a total hourly compensation rate of $82.48. (U.S. Bureau of Labor Statistics, “Employer Costs for Employee Compensation,” December 2012, Table 1, percentage of wages and salaries for all civilian management, professional, and related employees, http://www.bls.gov/ncs). Accordingly, the total estimated cost to the federal government is $326,073 ($276,585 plus $49,488).

Dated: February 5, 2014.
Todd A. Stevenson,
Secretary, Consumer Product Safety Commission.

[FR Doc. 2014-02786 Filed 2-7-14; 8:45 am]

BILLING CODE 6355-01-P